DEPARTMENT OF THE TREASURY

Internal Revenue Service

Restaurant and Bar Tip Reporting Open Meeting

AGENCY: Internal Revenue Service (IRS), Treasury.

ACTION: Notice.

SUMMARY: This is an open meeting to discuss tip reporting and tax responsibilities of employees and employers in restaurants and drinking establishments.

DATES: This meeting will be held on Wednesday, April 2, 2003. Notification of intent to attend the meeting or make a presentation at the meeting should be made with Christine Williams or Sandy Cyze at 630-493-5812 by March 14, 2003. Notification of intent should include your name, phone number, e-mail address and organization represented. If you leave this information for Ms. Williams or Ms. Cyze in a voice-mail message, please spell out all names.

ADDRESSES: This meeting will be held at the Treasury Executive Institute, 801 9th St., NW., Washington, DC. The meeting will be open to the public and will be in a room that accommodates approximately 50 people. Limited seating space and building security requirements necessitate reservations, so please call as early as possible.

FOR FURTHER INFORMATION CONTACT: To get on the access list to attend this meeting, or have a copy of the agenda faxed to you, call Christine Williams or Sandy Cyze at 630-493-5812. A draft of the agenda will be e-mailed to registered participants during the week prior to the meeting.

SUPPLEMENTARY INFORMATION: The IRS welcomes suggestions that will simplify the taxpayer burden associated with tip reporting by restaurants and their employees. The IRS is also interested in current tip practice and the electronic collection of data. Written comments can be mailed to the IRS, Taxpayer Education and Communications Area Director, 2001 Butterfield Rd., Suite 1301, Downers Grove, IL 60515 or via e-mail to leonard.n.hall@irs.gov. Comments are due by March 14, 2003.

Background: In 1994, the IRS met with industry representatives and developed several voluntary programs to encourage accurate tip reporting. Despite these existing programs, a significant amount of tip income remains unreported. In June 2002, the Supreme Court affirmed in the case of United States vs. Fior D'Italia that the IRS can impose employer-only assessments of unpaid employment taxes on tips. While the Court sustained the IRS' authority to perform these audits, the IRS is interested in continuing its long-held successful dialogue with the food and beverage industry. The IRS is seeking taxpayer input to help increase participation and compliance in existing tip programs.

Summarized Agenda for Meeting Wednesday, April 2, 2003

9 Meeting Opens

11:30 Break for Lunch

1 Meeting Resumes

5 Meeting Adjourns

The topics that are planned to be covered are as follows:

(1) Tip Rates-Industry Experience

(2) Industry Experience with Existing Programs

(3) Suggestions for Improving Process/Reducing Burden

(4) Incentives for Participation

(5) Electronic Recordkeeping Processes

Note: Last minute changes to these topics are possible and could prevent advance notice.

Dated: February 13, 2003.
Robert L. Hunt,
Director, Small Business/Self-Employed Division, Taxpayer Education and Communications.

[FR Doc. 03-4417 Filed 2-24-03; 8:45 am]

BILLING CODE 4830-01-P